DEPARTMENT OF COMMERCE

International Trade Administration

[C-570-948]

Certain Steel Grating From the People's Republic of China: Final Results of Expedited First Sunset Review of the Countervailing Duty Order

AGENCY: Enforcement and Compliance, International Trade Administration, Department of Commerce.

SUMMARY: The Department of Commerce (Department) finds that revocation of the countervailing duty (CVD) order on certain steel grating (steel grating) from the People's Republic of China (PRC) would be likely to lead to continuation or recurrence of a countervailable subsidy at the levels indicated in the “Final Results of Sunset Review” section of this notice.

DATES: Effective Date: October 5, 2015.

FOR FURTHER INFORMATION CONTACT: Toni Page, Office VII, AD/CVD Operations, Enforcement and Compliance, International Trade Administration, U.S. Department of Commerce, 14th Street and Constitution Avenue NW., Washington, DC 20230; telephone (202) 482-1398.

SUPPLEMENTARY INFORMATION:

Background

On July 23, 2010, the Department published the CVD Order on steel grating from the PRC.¹ On June 1, 2015, the Department published a notice of initiation of the first sunset review of the CVD Order on steel grating from the PRC pursuant to section 751(c)(2) of the Tariff Act of 1930, as amended (the Act).² On June 15, 2015, Metal Grating Coalition and its individual members, Alabama Metal Industries Corporation, Fisher & Ludlow, Inc., Harsco Industrial IKG, Interstate Gratings, LLC, and Ohio Gratings, Inc. (collectively, MGC) filed a notice of intent to participate in the review.³ Metal Grating Corporation claimed interested party status under section 771(9)(F) of the Act, as an association of domestic producers of the domestic like product.⁴ The domestic producers comprising the association claimed interested party status pursuant to section 771(9)(C) of the Act.

¹ See Certain Steel Grating from the People's Republic of China: Countervailing Duty Order, 75 FR 43144 (July 23, 2010) (CVD Order).

² See Initiation of Five-Year “Sunset” Reviews, 80 FR 31012 (June 1, 2015).

³ See Letter to the Department, “Certain Steel Grating from the People's Republic of China: Notice of Intent to Participate in Sunset Review, Entry of Appearance, and APO Application,” (June 15, 2015).

⁴ See Letter to the Department, “Certain Steel Grating from the People's Republic of China: Substantive Response to Notice Initiating Sunset Review,” (July 1, 2015) (MGC's Substantive Response).

The Department received an adequate substantive response from the domestic industry within the 30-day deadline specified in 19 CFR 351.218(d)(3)(i). The Department did not receive a response from the Government of the PRC (GOC) or any respondent interested party to the proceeding. As a result, pursuant to section 751(c)(3)(B) of the Act and 19 CFR 351.218(e)(l)(ii)(B)(2) and (C)(2), the Department conducted an expedited review of this CVD Order on steel grating.

Scope of the Order

The merchandise subject to this CVD Order is steel grating. Imports of merchandise included within the scope of this order are currently classifiable under subheading 7308.90.7000 of the Harmonized Tariff Schedule of the United States. The Issues and Decision Memorandum, which is hereby adopted by this notice, provides a full description of the scope of the order.⁵

⁵ See Department Memorandum, “Issues and Decision Memorandum for the Final Results of the Expedited First Sunset Review of the Countervailing Duty Order on Certain Steel Grating from the People's Republic of China,” dated concurrently with this notice.

The Issues and Decision Memorandum is a public document and is on file electronically via Enforcement and Compliance's Antidumping and Countervailing Duty Centralized Electronic Service System (ACCESS). ACCESS is available to registered users at http://access.trade.gov and in the Central Records Unit, Room B8024 of the main Department of Commerce building. In addition, a complete version of the Issues and Decision Memorandum can be accessed at http://enforcement.trade.gov/frn/. The signed Issues and Decision Memorandum and the electronic version of the Issues and Decision Memorandum are identical in content.

Analysis of Comments Received

All issues raised in this review are addressed in the Issues and Decision Memorandum. The issues discussed include the likelihood of continuation or recurrence of a countervailable subsidy and the net countervailable subsidy rate likely to prevail if the CVD Order were revoked.

Final Results of Sunset Review

Pursuant to sections 752(b)(1) and (3) of the Act, we determine that revocation of the CVD Order on steel grating from the PRC would be likely to lead to continuation or recurrence of a net countervailable subsidy at the rates listed below:

Manufacturers/ Exporters/ Producers | Net countervailable subsidy (percent)
Ningbo Jiulong Machinery Manufacturing Co., Ltd | 62.46
All Others | 62.46

Notification Regarding Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

The Department is issuing and publishing these final results and this notice in accordance with sections 751(c), 752(b), and 777(i)(1) of the Act and 19 CFR 351.218.

Dated: September 28, 2015.
Paul Piquado,
Assistant Secretary for Enforcement and Compliance.

[FR Doc. 2015-25296 Filed 10-2-15; 8:45 am]

BILLING CODE 3510-DS-P